DEPARTMENT OF THE INTERIOR

Bureau of Reclamation

[RR02030000, 15XR0687NA, RX185279046000000]

Notice of Availability of the Final Environmental Impact Statement and Final Feasibility Report for the Shasta Lake Water Resources Investigation, Shasta and Tehama Counties, California

AGENCY: Bureau of Reclamation, Interior.

ACTION: Notice.

SUMMARY: The Bureau of Reclamation has prepared the Final Environmental Impact Statement (FEIS) for the Shasta Lake Water Resources Investigation (SLWRI). The purpose of the proposed action is to improve operational flexibility of the Sacramento-San Joaquin Delta watershed system by modifying the existing Shasta Dam and Reservoir to meet specified objectives. Primary objectives are to increase the survival of anadromous fish populations in the upper Sacramento River and increase water supply and water supply reliability for agricultural, municipal and industrial, and environmental purposes. Secondary planning objectives are to: Conserve, restore, and enhance ecosystem resources in the primary study area; reduce flood damage along the Sacramento River; develop additional hydropower generation capabilities at Shasta Dam; maintain and increase recreation opportunities at Shasta Lake; and maintain or improve water quality conditions in the Sacramento River downstream from Shasta Dam and in the Sacramento-San Joaquin Delta. The companion Final Feasibility Report is also available, and together, these documents are provided to inform the Congress and the public of the technical studies conducted to date.

DATES: Ultimately, if the project is authorized by Congress, the Secretary may issue a Record of Decision (ROD) at least 30 days after release of the FEIS. The ROD will state the action that will be implemented, consistent with Congressional authorization, and will discuss all factors leading to the decision.

ADDRESSES: The FEIS may be viewed at the SLWRI Web site at www.usbr.gov/mp/slwri. See the SUPPLEMENTARY INFORMATION section for locations where copies of the FEIS are available for public review.

FOR FURTHER INFORMATION CONTACT: Ms. Katrina Chow, Reclamation Project Manager, Bureau of Reclamation, 2800 Cottage Way, Sacramento, CA 95825; 916-978-5067, TDD 916-978-5608; via fax at 916-978-5094; or email to bor-mpr-slwri@usbr.gov.

SUPPLEMENTARY INFORMATION: A Notice of Availability of the Draft Environmental Impact Statement (DEIS) was published in the Federal Register on July 1, 2013 (78 FR 39315). The comment period on the DEIS ended on September 30, 2013. The FEIS contains responses to all comments received and reflects comments and any additional information received during the review period. The Final Feasibility Report and FEIS incorporate clarifying information in consideration of comments received.

Shasta Dam was completed in 1945 to serve multiple purposes, including flood control; water supply for agricultural, municipal and industrial, and environmental purposes; and hydropower generation. In addition, extensive recreational opportunities in and around Shasta Lake significantly contribute to the regional economy.

Authorization for the investigation comes from Public Law (Pub. L.) 96-375, 1980, directing the Secretary of the Interior to engage in feasibility studies related to enlarging Shasta Dam and Reservoir. Related legislation includes Title 34 of Pub. L. 102-575 (the Central Valley Project Improvement Act) and Pub. L. 108-361, the CALFED Bay-Delta Authorization Act. In addition, enlargement of Shasta Dam was identified in the CALFED Programmatic Environmental Impact Report/Statement and Record of Decision.

With the release of the FEIS, the Final Feasibility Report and FEIS will be provided to Congress. The following planning objectives apply to the proposed action/project modification.

Planning Objectives

• Primary Planning objectives: (1) Increase the survival of anadromous fish populations in the Sacramento River, primarily upstream from the Red Bluff Diversion Dam, and (2) increase water supply and water supply reliability for agricultural, municipal and industrial, and environmental purposes to help meet future water demands, with a focus on enlarging Shasta Dam and Reservoir. Action alternatives were formulated to address these primary planning objectives.

• Secondary Planning Objectives. The following actions, operations, or features are included to the extent possible and consistent with the primary planning objectives: (1) Conserve, restore, and enhance ecosystem resources in the Shasta Lake area and along the upper Sacramento River, (2) reduce flood damage along the Sacramento River, (3) develop additional hydropower generation capabilities at Shasta Dam, (4) maintain and increase recreation opportunities at Shasta Lake, and (5) maintain or improve water quality conditions in the Sacramento River downstream from Shasta Dam and in the Sacramento-San Joaquin Delta.

Final Environmental Impact Statement

The FEIS documents a reasonable range of alternatives and evaluates the potential direct, indirect, and cumulative environmental effects of alternative plans. Evaluation of six alternatives is documented in the FEIS, including a No-Action Alternative and five action alternatives. The FEIS displays the potential project-related impacts, including the effects of project construction and operation on the following resource areas: Geology, air quality, hydrology, water quality, noise, hazards and hazardous materials, important agricultural lands, fish, vegetation and wildlife, cultural resources, Indian Trust Assets, socioeconomics, land use, recreation, visual resources, traffic and circulation, utilities, public services, power and energy, environmental justice, and wild and scenic rivers; and identifies the Preferred Alternative, pursuant to the National Environmental Policy Act.

Potential project-related impacts include the construction-related effects of the dam enlargement, reservoir area relocations, and other alternative features; water operations-related effects within the reservoir area (e.g., including additional inundation areas); and associated effects to operations of other Central Valley Project and State Water Project facilities. Project operations may directly or indirectly affect the resources of the Sacramento River, its tributaries, the San Joaquin River, its tributaries, and the Sacramento-San Joaquin Delta. The FEIS also evaluates potential growth-inducing impacts for the Central Valley Project and State Water Project water service areas. Potential cumulative effects associated with reasonably foreseeable actions are also evaluated for each resource area.

Copies of the FEIS and Final Feasibility Report are available for public review at the following locations:

• Bureau of Reclamation, Regional Library, 2800 Cottage Way, Sacramento, CA 95825.

• Bureau of Reclamation, Northern California Area Office, 16349 Shasta Dam Boulevard, Shasta Lake, CA 96019.

• Natural Resources Library, Department of the Interior, 1849 C Street NW., Main Interior Building, Washington, DC 20240.

• Shasta County Main Library, 1855 Shasta Street, Redding, CA 96001.

Copies of the FEIS and Final Feasibility Report are available on-line via the SLWRI Web site, at: www.usbr.gov/mp/slwri.

Public Disclosure

Before including your address, phone number, email address, or other personal identifying information in any correspondence, you should be aware that your entire correspondence—including your personal identifying information—may be made publicly available at any time. While you can ask us in your correspondence to withhold your personal identifying information from public review, we cannot guarantee that we will be able to do so.

Dated: July 30, 2015.
Jason Phillips,
Deputy Regional Director, Mid-Pacific Region.

[FR Doc. 2015-19472 Filed 8-6-15; 8:45 am]

BILLING CODE 4310-MN-P